DEPARTMENT OF HOMELAND SECURITY

U.S. Citizenship and Immigration Services

[CIS No. 2748-23; DHS Docket No. USCIS-2014-004]

RIN 1615-ZB79

Extension and Redesignation of South Sudan for Temporary Protected Status

Correction

In Notice document 2023-19312 beginning on page 60971 in the issue of Wednesday, September 6, 2023, make the following correction:

On page 60976, in the first column, in the signature, in the first line “Alejandro N. Mayorkas,Vienna” should read “Alejandro N. Mayorkas,”.

[FR Doc. C1-2023-19312 Filed 9-8-23; 8:45 am]

BILLING CODE 1505-01-D